DEPARTMENT OF THE INTERIOR

Bureau of Indian Affairs

Proposed Agency Information Collection Activities; Comment Request

AGENCY: Bureau of Indian Affairs, Interior.

ACTION: Notice.

SUMMARY: This notice announces that the Information Collection Request for the Housing Assistance Application requires renewal. The proposed information collection requirement, with no appreciable changes, described below will be submitted to the Office of Management and Budget (OMB) for review after a public comment period, as required by the Paperwork Reduction Act of 1995. The Bureau is soliciting public comments on the subject proposal.

DATES: Written comments must be submitted on or before July 9, 2001.

ADDRESSES: Interested parties are invited to submit written comments regarding this proposal. Comments should refer to the proposal by name and/or OMB Control Number and should be sent to June Henkel, Bureau of Indian Affairs, Department of the Interior, 1849 C Street, NW, MS-4660-MIB, Washington, DC 20240. E-mail should be sent to JuneHenkel@bia.gov. Fax: (202) 208-2648. Telephone: (202) 208-3667. (This is not a toll-free number.)

FOR FURTHER INFORMATION CONTACT: Requests for additional information or copies of the information collection instructions should be directed to June Henkel, 202-208-3667.

SUPPLEMENTARY INFORMATION:

I. Abstract

The information is needed to establish whether an applicant is eligible to receive services under the HIP and to establish the priority order in which eligible applicants may receive services under the program.

II. Method of Collection

The housing regulations at 25 CFR part 256 contain the program eligibility and selection criteria (§§ 256.6, 256.8, 256.9, 256.10, 256.14) which prospective applicants seeking program services must demonstrate that they meet. Information collected from applicants under these regulations provides eligibility and selection data used by the local servicing housing office to establish whether an applicant is eligible to receive services. The local servicing housing office may be a tribal housing office under a Public Law 93-638, Indian Self-Determination contract or a Self-Governance annual funding agreement, or the Bureau of Indian Affairs. Additionally, the data is used by the Assistant Secretary—Indian Affairs to establish whether a request for waiver of a specific housing regulation is in the best interest of the applicant and the Federal Government.

III. Data

(1) Title of the Collection of Information: Department of the Interior, Bureau of Indian Affairs, Housing Assistance Application.

OMB Number: 1076-0084.

Expiration Date: September 30, 2001.

Type of Review: Renewal of a currently approved information collection.

(2) Summary of the Collection of Information: The collection of information provides pertinent data concerning an applicant's eligibility to receive services under the Housing Improvement Program and includes:

A. Applicant Information including: Name, Current Address, Telephone Number, Date of Birth, Tribe, Roll Number, Marital Status, Name of Spouse, Date of Birth (of spouse), Tribe (of spouse), and Roll Number (of Spouse).

B. Family Information including: Name, Date of Birth, Relationship to Applicant, and Tribe/Roll Number.

C. Income Information: Earned and Unearned Income.

D. Housing Information including: Location of the house to be repaired, constructed or purchased; Description of housing assistance for which applying; Knowledge of receipt of prior Housing Improvement Program assistance, amount, to whom and when; Ownership or rental; Availability of electricity and name of electric company; Type of sewer system; Water source; Number of bedrooms; Size of house; and, Bathroom facilities.

E. Land Information including: Land owner; Legal status of land; or Type of interest in land.

F. General Information including: Prior receipt of services under the Housing Improvement Program and description of such; Ownership of other housing and description of such, Identification of Housing and Urban Development (HUD) funded house and current status of project; Identification of other sources of housing assistance for which the applicant has applied and been denied assistance if applying for a new housing unit or purchase of an existing standard unit; and advisement and description of any severe health problem, handicap or permanent disability.

G. Applicant Certification including: Signature of Applicant and Date, and Signature of Spouse and Date.

(3) Description of the need for the information and proposed use of the information: Submission of this information is required in order to receive services under the Housing Improvement Program. The information is collected to determine applicant eligibility for services and applicant priority order to receive services under the program.

(4) Description of likely respondents, including the estimated number of likely respondents, and proposed frequency of response to the collection of information:

Description of likely respondents: Individual members of Indian tribes who are living on or near a tribally, or by law, defined service area.

Estimated number of respondents: 3,500.

Proposed frequency of response: Annually or less frequently, depending on length of waiting list, funding availability and dynamics of service population.

(5) Estimate of total annual reporting and record keeping burden that will result from the collection:

Estimated time per application: The reporting burden for this applicant is estimated to average ½ hour per response, including the time for reviewing the instructions, gathering and maintaining the data, and completing and reviewing the form.

Estimated Total Annual Reporting Burden Hours: 1,750 hours.

Estimated record keeping burden per application: The record keeping burden for tribes submitting eligible applicant data and not having or receiving funds to administer the program is estimated to average ½ hour per application, including the time for reviewing the application, determining applicant eligibility and priority ranking and summarizing data for submission.

Estimated Total Record Keeping Burden: 156 hours.

Estimated Total Record Keeping Costs: $2,431 (117.5 hours × $20.69 per hour).

IV. Request for Comments

The Department of the Interior invites comment on:

(a) Whether the collection of information is necessary for the proper performance of the functions of the agency, including whether the information will have practical utility;

(b) The accuracy of the agency's estimate of the burden (including hours and cost) of the proposed collection of information, including the validity of the methodology and assumptions used;

(c) Ways to enhance the quality, utility, and clarity of the information to be collected; and,

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information; to train personnel and to be able to respond to a collection of information, to search data sources, to complete and review the collection of information; and, to transmit or otherwise disclose information.

Comments submitted in response to this notice will be summarized and/or included in the request for OMB approval of this information collection; they will also become a matter of public record. All written comments will be available for public inspection in Room 4660 of the Main Interior Building, 1849 C Street, NW, Washington, DC, from 9:00 a.m. until 4:00 p.m., Monday through Friday, excluding legal holidays. An agency may not conduct or sponsor, and a person is not required to respond to a collection of information unless it displays a currently valid Office of Management and Budget control number.

Dated: April 30, 2001.
James H. McDivitt,
Deputy Assistant Secretary—Indian Affairs (Management).

[FR Doc. 01-11752 Filed 5-9-01; 8:45 am]

BILLING CODE 4310-02-P